DEPARTMENT OF ENERGY

Federal Energy Regulatory Commission

Combined Notice of Filings #2

Take notice that the Commission received the following electric rate filings:

Docket Numbers: ER15-1556-000.

Applicants: Niagara Mohawk Power Corporation.

Description: Notice of Cancellation of Interconnection Agreement with Allegany Limited Partnership of Niagara Mohawk Power Corporation.

Filed Date: 4/23/15.

Accession Number: 20150423-5182.

Comments Due: 5 p.m. ET 5/14/15.

Docket Numbers: ER15-1557-000.

Applicants: Entrust Energy East, Inc.

Description: Compliance filing per 35: Notice of Succession and Revised Market-Based Rate Tariff to be effective 4/22/2015.

Filed Date: 4/23/15.

Accession Number: 20150423-5200.

Comments Due: 5 p.m. ET 5/14/15.

Docket Numbers: ER15-1558-000.

Applicants: Southwest Power Pool, Inc.

Description: Section 205(d) rate filing per 35.13(a)(2)(iii): 2403R2 Sunflower-ITC Interconnection Agreement to be effective 12/31/9998.

Filed Date: 4/23/15.

Accession Number: 20150423-5229.

Comments Due: 5 p.m. ET 5/14/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 23, 2015.
Nathaniel J. Davis, Sr.,
Deputy Secretary.

[FR Doc. 2015-09970 Filed 4-28-15; 8:45 am]

BILLING CODE 6717-01-P